DEPARTMENT OF AGRICULTURE

Forest Service

Olympic Provincial Advisory Committee

AGENCY: Forest Service, USDA.

ACTION: Notice of meeting.

SUMMARY: The Olympic Province Advisory Committee (OPAC) will meet on Friday, December 5, 2003. The meeting will be held at the Olympic National Forest Headquarters, 1835 Black Lake Blvd., SW., Olympia, Washington. The meeting will begin at 9:30 a.m. and end at approximately 3 p.m. Agenda topics are: Current status of key Forest issues; Year-end Accomplishments; NW Forest Plan Monitoring Review; Five-Year Programmatic Agreement; Update on Storm Damage to Olympic National Forest and Park roads, trails and facilities; NW Forest Plan Action for FY2004; Open forum; Public comments.

All Olympic Province Advisory Committee Meetings are open to the public. Interested citizens are encouraged to attend.

FOR FURTHER INFORMATION CONTACT: Direct questions regarding this meeting to Ken Eldredge, Province Liaison, USDA Olympic National Forest Headquarters, 1835 Black Lake Blvd., Olympia, WA 98512-5623, (360) 956-2323 or Dale Hom, Forest Supervisor, at (360) 956-2301.

Dated: November 4, 2003.
Dale Hom,
Forest Supervisor, Olympic National Forest.

[FR Doc. 03-28157 Filed 11-7-03; 8:45 am]

BILLING CODE 3410-11-M